FEDERAL HOUSING FINANCE BOARD

Sunshine Act Meeting Notice; Announcing a Partially Open Meeting of the Board of Directors

Time and Date: The open meeting of the Board of Directors is scheduled to begin at 10 a.m. on Wednesday, February 9, 2005. The closed portion of the meeting will follow immediately the open portion of the meeting.

Place: Board Room, Second Floor, Federal Housing Finance Board, 1777 F Street, NW., Washington, DC 20006.

Status: The first portion of the meeting will be open to the public. The final portion of the meeting will be closed to the public.

Matters to be Considered at the Open Portion of the Meeting: Capital Plan Amendment for the Federal Home Loan Bank of Dallas.

Final Rule Updating the Minority Contractors Outreach Program.

Proposed Rule Establishing a Data Directive Manual (DDM).

Matter to be Considered at the Closed Portion of the Meeting: Periodic Update of Examination Program Development and Supervisory Findings.

Contact Person for More Information: Shelia Willis, Paralegal Specialist, Office of General Counsel, at (202) 408-2876 or williss@fhfb.gov.

Dated: February 2, 2005.
By the Federal Housing Finance Board.
Mark J. Tenhundfeld,
General Counsel.

[FR Doc. 05-2311 Filed 2-2-05; 3:11 pm]

BILLING CODE 6725-01-P